DEPARTMENT OF COMMERCE

National Oceanic and Atmospheric Administration

50 CFR Part 622

[I.D. 020702E]

Fisheries of the Caribbean, Gulf of Mexico, and South Atlantic; South Atlantic Fishery Management Council; Public Hearing

AGENCY: National Marine Fisheries Service (NMFS), National Oceanic and Atmospheric Administration, Commerce.

ACTION: Notice of public hearings.

SUMMARY: The South Atlantic Fishery Management Council (Council) will convene a public hearing to consider additional alternatives for the Sargassum Fishery Management Plan (FMP). The Secretary of Commerce has prepared a Draft Supplemental Environmental Impact Statement (DSEIS) that identifies and analyzes additional alternatives that the Council had not previously analyzed. See SUPPLEMENTARY INFORMATION for more information.

DATES: The public hearing will be held March 6, 2002, at 1:30 p.m. Written comments must be received in the Council office by March 6, 2002.

ADDRESSES: The hearing will be held at the Hilton Savannah DeSoto, 15 East Liberty Street, Savannah, Georgia 31401; phone 800-426-8483 or 912-232-9000. Written comments should be sent to Bob Mahood, Executive Director, South Atlantic Fishery Management Council, One Southpark Circle, Suite 306, Charleston, SC 29407-4699, or via email to safmc@safmc.net. Copies of the SDEIS are available from Kim Iverson, South Atlantic Fishery Management Council, One Southpark Circle, Suite 306, Charleston, SC 29407-4699; telephone: 843-571-4366.

FOR FURTHER INFORMATION CONTACT: Kim Iverson, South Atlantic Fishery Management Council, One Southpark Circle, Suite 306, Charleston, SC 29407-4699; telephone: 843-571-4366; fax: 843-769-4520; email address: kim.iverson@safmc.net.

SUPPLEMENTARY INFORMATION: Both the Sargassum FMP and the Fishery Management Plan for the Calico Scallop Fishery in the South Atlantic Region (Calico Scallop FMP) were originally incorporated in the Comprehensive Amendment Addressing Essential Fish Habitat in the Fishery Management Plans for the South Atlantic Region (EFH FMP). A Draft Environmental Impact Statement (DEIS) on the Comprehensive EFH Amendment, including the Sargassum and Calico Scallop measures, was filed with the Environmental Protection Agency (EPA) in July 1998 (63 FR 38643, July 17, 1998). On advice from the National Marine Fisheries Service (NMFS), the Council subsequently removed both the Sargassum FMP and the Calico Scallop FMP from the EFH FMP and created stand alone documents.

NMFS prepared a Supplemental Draft Environmental Impact Statement in order to analyze additional alternatives for the Sargassum FMP and to give the public additional opportunity to comment on the proposed actions. The notice of availability of the SDEIS published in the Federal Register January 11, 2002 (67 FR 1461) with the comment period ending February 25, 2002. At the March meeting, the Council intends to review NMFS' SDEIS as well as comments received during the comment period and consider whether modification to the FMP is appropriate.

Special Accommodations

These meetings are physically accessible to people with disabilities. Requests for sign language interpretation or other auxiliary aids should be directed to the Council office (see ADDRESSES) by March 1, 2002.

Dated: February 12, 2002.
Bruce C. Morehead,
Deputy Director, Office of Sustainable Fisheries, National Marine Fisheries Service.

[FR Doc. 02-3982 Filed 2-15-02; 8:45 am]

BILLING CODE 3510-22-S